DEPARTMENT OF COMMERCE

National Oceanic and Atmospheric Administration

[I.D. 093002B]

Marine Mammals; File No. 42-1642

AGENCY: National Marine Fisheries Service (NOAA Fisheries), National Oceanic and Atmospheric Administration (NOAA), Commerce.

ACTION: Issuance of permit amendment.

SUMMARY: Notice is hereby given that Mystic Aquarium, 55 Coogan Blvd., Mystic, CT 06355 (Dr. Lisa Mazarro, Principal Investigator) has been issued a permit amendment to take Steller sea lions for purposes of scientific research and enhancement.

ADDRESSES: The permit amendment and related documents are available for review upon written request or by appointment in the following office(s):

Permits, Conservation and Education Division, Office of Protected Resources, NOAA Fisheries, 1315 East-West Highway, Room 13705, Silver Spring, MD 20910; phone (301)713-2289; fax (301)713-0376; and

Northeast Region, NOAA Fisheries, One Blackburn Drive, Gloucester, MA 01930-2298; phone (978)281-9200; fax (978)281-9371.

FOR FURTHER INFORMATION CONTACT: Amy Sloan or Tammy Adams, (301)713-2289.

SUPPLEMENTARY INFORMATION: On July 11, 2002, notice was published in the Federal Register (67 FR 45958) that a request for an amendment to scientific research Permit No. 42-1642-01 to take Steller sea lions had been submitted by the above-named organization. The requested permit amendment has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this permit amendment, as required by the ESA, was based on a finding that such permit (1) was applied for in good faith, (2) will not operate to the disadvantage of the endangered species which is the subject of this permit, and (3) is consistent with the purposes and policies set forth in section 2 of the ESA.

The permit amendment authorizes the permit holder to import one male Steller sea lion from the Vancouver Aquarium, Vancouver, Canada, for breeding with female Steller sea lions currently held by Mystic Aquarium in support of their study of changes in vitamin A and E status in relation to various life history stages in captive Steller sea lions.

Dated: October 24, 2002.
Eugene T. Nitta,
Acting Chief, Permits, Conservation and Education Division, Office of Protected Resources, NOAA Fisheries.

[FR Doc. 02-27565 Filed 10-29-02; 8:45 am]

BILLING CODE 3510-22-S